DEPARTMENT OF COMMERCE

National Oceanic and Atmospheric Administration

RIN 0648-XG964

Fisheries of the South Atlantic, Gulf of Mexico, and Caribbean; Southeast Data, Assessment, and Review (SEDAR); Public Meeting

AGENCY: National Marine Fisheries Service (NMFS), National Oceanic and Atmospheric Administration (NOAA), Commerce.

ACTION: Notice of public meeting of the SEDAR Steering Committee.

SUMMARY: The SEDAR Steering Committee will meet to discuss the SEDAR process and assessment schedule. See SUPPLEMENTARY INFORMATION.

DATES: The SEDAR Steering Committee will meet Thursday, May 16, 2019, from 1:30 p.m. until 6 p.m. and Friday, May 17, 2019, from 8:30 a.m. until 3 p.m.

ADDRESSES:

Meeting address: The Steering Committee meeting will be held at the Francis Marion Hotel, 387 King Street, Charleston, SC; phone: (843) 722-0600.

SEDAR address: South Atlantic Fishery Management Council, 4055 Faber Place Drive, Suite 201, N Charleston, SC 29405; www.sedarweb.org.

FOR FURTHER INFORMATION CONTACT: John Carmichael, Deputy Executive Director, 4055 Faber Place Drive, Suite 201, North Charleston, SC 29405; phone: (843) 571-4366 or toll free (866) SAFMC-10; fax: (843) 769-4520; email: john.carmichael@safmc.net.

SUPPLEMENTARY INFORMATION: The SEDAR Steering Committee provides guidance and oversight of the SEDAR program and manages stock assessment scheduling. The items of discussion for this meeting are as follows:

1. SEDAR projects update

2. SEDAR projects schedule

3. Wreckfish assessment opportunities

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the intent to take final action to address the emergency.

Special Accommodations

This meeting is accessible to people with disabilities. Requests for auxiliary aids should be directed to the SAFMC office (see ADDRESSES) at least 10 business days prior to the meeting.

Note: The times and sequence specified in this agenda are subject to change.

Authority: 16 U.S.C. 1801 et seq.

Dated: April 24, 2019.
Tracey L. Thompson,
Acting Deputy Director, Office of Sustainable Fisheries, National Marine Fisheries Service.

[FR Doc. 2019-08665 Filed 4-29-19; 8:45 am]

BILLING CODE 3510-22-P